FEDERAL COMMUNICATIONS COMMISSION

47 CFR Chapter 1

[FCC 01-385]

Termination of Stale or Moot Docketed Proceedings

AGENCY: Federal Communications Commission

ACTION: Final rule; termination of docketed proceedings.

SUMMARY: The Federal Communications Commission has terminated the stale or moot docketed proceedings as set forth in the Order adopted by the Commission on December 21, 2001, and released January 11, 2002. The Commission has determined that no further action by the Commission is required in the proceedings.

DATES: These docket proceedings are terminated effective on January 11, 2002.

FOR FURTHER INFORMATION CONTACT: Patricia Rawlings, Consumer Information Bureau, (202) 418-0294.

SUPPLEMENTARY INFORMATION: 1. We have reviewed the docket proceedings listed in the Appendix, and have determined that the dockets should be terminated. None of the dockets have any outstanding issues. The matters at issue in these proceedings were resolved by the issuance of final orders that were not subject to judicial review, or if subject to judicial review, were affirmed and the court's mandate was issued. Therefore, no further action by the Commission is required in the dockets listed in the attached Appendix, and they are hereby deemed terminated.

2. Accordingly, pursuant to sections 4(i) and 4(j) of the Communications Act, 47 U.S.C. 154(i) and (j), it is ordered that the docketed proceedings set forth in the Appendix are terminated, effective on January 11, 2002.

Federal Communications Commission.
William F. Caton,
Deputy Secretary.

Appendix
Docket No. | Subject matter | Action | Cite
CC 85-89 | Preemption of State Entry Regulation in the Public Land Mobile Service | MO | 2 FCC Rcd 6434
CC 85-93 | Tariff FCC No. 3 (Transmittal Nos. 197, 208 & 209); Tariff FCC No. 38 (Transmittal Nos. 445 and 455); Tariff FCC No. 41 (Transmittal Nos. 742 and 753) | MO | 5 FCC Rcd 2573
CC 86-1 | WATS-Related and Other Amendments of Part 69 of the Commission's Rules | MO | 7 FCC Rcd 5644
CC 86-164 | Amendment of the Commission's Rules To Simplify Individual Licensing Procedures in the Domestic Public Air-Ground Radiotelephone Service | RO | 51 FR 39754
CC 86-165 | Amendment of the Commission's Rules To Simplify the Separate Subsidiary Reporting Requirement in the Domestic Public Cellular Radio Telecommunications Service | RO | 51 FR 37022
CC 87-120 | In the Matter of Flexible Allocation of Frequencies in the Domestic Public Land Mobile Service for Paging and Other Services | OR | 57 FR 37105
CC 87-274 | Amendment of Section 22.901(D) of the Commission's Rules To Eliminate Commission Review of Capitalization Plans for Mobile Radio Cellular Systems | RO | 53 FR 23765
CC 88-326 | In the Matter of Access Tariff Filing Schedules | RO | 55 FR 6989
CC 88-471 | In the Matter of Tariff F.C.C. No. 15—Competitive Pricing Plans; Holiday Rate Plan. (Transmittal No. 1215) | ON | 5 FCC Rcd 7504
CC 91-141 | Expanded Interconnection With Local Telephone Company Facilities | ON | 13 FCC Rcd 16102
CC 91-213 | MTS and WATS Market Structure/Transport Rate Structure and Pricing | RO | 13 FCC Rcd 6332
CC 91-328 | CPS Operator Services, Inc. TOCSIA Informational Tariffs | OR | DA 91-1548
CC 91-64 | Amendment of Equal Access Balloting and Carrier Selection Rules To Require That Interexchange Carriers Obtain Written Customer Authorization Before Submitting Primary Interchange Carrier Selections | OR | 8 FCC Rcd 3215
CC 92-135 | Regulatory Reform for Local Exchange Carriers Subject to Rate of Return Regulation | ON | 12 FCC Rcd 2259
CC 92-24 | Local Exchange Carrier Line Information Database—Open Network Architecture | OR | 8 FCC Rcd 8118
CC 93-162 | Ameritech Operating Companies Revisions to Tariff FCC No. 2; Bell Atlantic Telephone Companies Revisions to Tariff FCC No. 1; Bellsouth Telecommunications Inc. Revisions to Tariff FCC No. 1, etc | OR | 14 FCC Rcd 987
CC 93-179 | Price Cap Regulation of Local Exchange Carriers; Rate of Return Sharing and Lower Formula Adjustment | OR | 10 FCC Rcd 11979
CC 94-157 | Bell Atlantic Telephone Companies Tariff F.C.C. No. 1, Transmittal No. 690; NYNEX Telephone Companies Tariff F.C.C. No. 1, Transmittal No. 328 | OR | 12 FCC Rcd 18724
CC 95-133 | AT&T Contract Tariff No. 374 | OR | DA 95-2142
CC 95-146 | AT&T Communications Contract Tariff No. 360 | OR | 10 FCC Rcd 1379
CC 95-80 | AT&T Communications Contract Tariff No. 360 | OR | 11 FCC Rcd 3194
CC 96-150 | Implementation of the Telecommunications Act of 1996: Accounting Safeguards Under the Telecommunications Act of 1996 | ON | 15 FCC Rcd 1161
CC 96-152 | Implementation of the Telecommunications Act of 1996: Telemessaging, Electronic Publishing, and Alarm Monitoring Services | OR | 14 FCC Rcd 19259
CC 96-187 | Implementation of a Section of the Telecommunications Act of 1996 | RO | 62 FR 5757
CC 96-22 | Responsible Accounting Officer Letter 20, Uniform Accounting for Postretirement Benefits Other Than Pensions in Part 32 Amendments to Part 65, Interstate Rate of Return Precription Procedures A | RO | 62 FR 15117
CC 96-23 | Revision of Filing Requirements | RO | 62 FR 5160
CC 96-237 | Implementation of Infrastructure Sharing Provisions in the Telecommunications Act of 1996 | OR | 65 FR 26203
CC 97-11 | Implementation of Section 402(B)(2)(A) of the Telecommunications Act of 1996 | RO | 64 FR 39938
CC 98-103 | In the Matter of SBC Communications Inc. Pacific Bell Telephone Company Pacific Transmittal No. 1986 | MO | 13 FCC Rcd 23667
CC 98-108 | In the Matter of Beehive Telephone Company, Inc., Beehive Telephone, Inc. Nevada | ON | 14 FCC Rcd 8077
CC 98-117 | In the Matter of 1998 Biennial Regulatory Review—Review of Armis Reporting Requirements | RO | 14 FCC Rcd 11443
CC 98-131 | 1998 Biennial Regulatory Review—Part 61 of the Commission's Rules and Related Tariffing Requirements | RO | 64 FR 46584
CC 98-137 | In the Matter of 1998 Biennial Regulatory Review—Review of Depreciation Requirements for Incumbent Local Exchange Carriers | ON | 66 FR 13690
CC 98-14 | In the Matter of Number Portability Query Services | MO | 14 FCC Rcd 1664
CC 98-157 | In the Matter of Petition of US West Communications, Inc. for Forbearance From Regulation ASA Dominant Carrier in the Phoenix, Arizona MS | MO | 14 FCC Rcd 19947
CC 98-161 | In the Matter of BellSouth Telecommunications, Inc | MO | 13 FCC Rcd 23667
CC 98-199 | In the Matter of BellSouth Telecommunications, Inc. F.C.C. Tariff No. 1 for Provision of Local Number Portability Database Services | OR | 14 FCC Rcd 1320
CC 98-210 | Fidelity Telephone Company and Bourbeuse Telephone Company Joint Applications for Consent to Assignment of Authority Under Section 214 of the Communications Act | MO | 13 FCC Rcd 22899
CC 98-25 | Application for Authority, Pursuant to Part of the Commission's Rules, to Transfer Control of Licenses Controlled By Southern New England | MO | 13 FCC Rcd 21292
CC 98-81 | In the Matter of 1998 Biennial Regulatory Review—Review of Accounting and Cost Allocation Requirements | RO | 13 FCC Rcd 21625
CC 98-91 | Southwestern Bell Telephone Company, Pacific Bell, and Nevada Bell Petition for Relief From Regulation Pursuant to Section of the Telecommunications Act of 1996 and 47 U.S.C. for ADSL Infrastructure and Service | OR | 66 FR 2336
CC 98-92 | Petition for Preemption of Tennessee Code Annotated and Tennessee Regulatory Authority Decision Denying Hyperion's Application Requesting Authority To Provide Service in Tennessee Rural LEC Service Areas | MO | 16 FCC Rcd 1247
CC 98-94 | In the Matter of 1998 Biennial Regulatory Review—Testing New Technology | ST | 14 FCC Rcd 6065
CC 99-249 | In the Matter of Low-Volume Long-Distance Users | OR | 15 FCC Rcd 23614
CC 99-316 | In the Matter of National Exchange Carrier Association, Inc | OR | 65 FR 64892
CS 94-48 | Implementation of Section 19 of the Cable Television Consumer Protection and Competition Act of 1992 | RT | 59 FR 64657
CS 95-61 | Implementation of Section of the Cable Television Consumer Protection and Competition of 1992—Annual Assessment of the Status of Competition in the Market for Delivery of Video Prog | RT | 61 FR 1932
CS 96-46 | Implementation of Section 302 of the Telecommunications Act of 1996 | OR | 65 FR 375
CS 98-201 | In the Matter of Satellite Delivery of Network Signals to Unserved Households for Purposes of the Satellite Home Viewer Act | ON | 64 FR 73429
CS 98-61 | In the Matter of 1998 Biennial Regulatory Review—Annual Report of Cable Television System, Form 325, Filed Pursuant to Section of the Commission's Rules | OR | 15 FCC Rcd 9707
ET 93-40 | Allocation of the 219-220 Band for Use by the Amateur Radio Service | MO | 61 FR 15382
ET 94-124 | Amendment of Part 2 and 15 of the Commission's Rules to Permit Use of Radio Frequencies Above 40 GHZ for New Radio Applications | MO | 65 FR 38431
ET 96-20 | Amendment of Parts 2 and 25 of the Commission's Rules to Allocate the 13.75-14.0 GHZ Band to the Fixed-Satelite Service | RO | 61 FR 52301
ET 96-256 | Amendment of the Commission's Rules to Revise the Experimental Radio Service Regulations | RO | 63 FR 64199
ET 97-206 | In the Matter of Technical Requirements To Enable Blocking of Video Programming Based on Program Ratings | RO | 63 FR 20131
ET 98-197 | Amendment of Parts of the Commission's Rules Regarding the Radionavigation Service at 31.8-32.3 GHz | RO | 65 FR 60108
ET 99-254 | In the Matter of Closed Captioning Requirements for Digital Television Receivers | RO | 65 FR 58467
ET 99-261 | In the Matter of Amendment of Part of the Commission's Rules to Allocate Additional Spectrum to the Inter-Satellite, Fixed, and Mobile Services and to Permit Unlicensed Devices to Use Certain Segments in the 50.2-50.4 GHz and 51.4-71.0 | RO | 66 FR 7402
FO 91-171 | Inquiry into Possible Technical Improvements in the Emergency Broadcasting System | RO | 64 FR 5950
FO 91-301 | Amendment of Part 73, Subpart G. of the Commission's Rules Regarding the Emergency Broadcast System | RO | 64 FR 5950
GC 91-119 | Use of Alternative Dispute Resolution Procedures in Commission Proceedings and Proceedings in Which the Commission is a Party | MO | 57 FR 32180
GC 97-113 | Electronic Filing of Documents in Rulemaking Proceedings | MO | 63 FR 56090
GN 84-467 | In the Matter of Preparation for an International Telecommunications Union Region 2 Administrative Radio Conference for the Planning of Broadcasting in the 1605-1705 kHz Band | OR | 53 FR 26612
GN 85-172 | In the Matter of Further Sharing of the UHF Television Band by Private Land Mobile Radio Services | OR | 52 FR 43205
GN 88-441 | In the Matter of Technical compatibility protocol standards for equipment operating in the 800 MHz public safety bands | OR | 55 FR 4888
GN 89-554 | In the Matter of an Inquiry Relating to Preparation for the International Telecommunication Union World Administrative Radio Conference for Dealing With Frequency Allocations in Certain parts of the Spectrum | RT | 56 FR 31095
GN 90-357 | Amendment of the Rules With Regard to the Establishment and Regulation of New Digital Audio Radio Services | MO | 63 FR 24126
GN 93-252 | Implementaiton of Sections 3(N) and 332 of the Communications Act—Regulatory Treatment of Mobile Services | ON | 66 FR 13022
GN 94-90 | Eligibility for Specialized Mobile Radio Services and Radio Services in the 220-222 MHZ Land Mobile Band and Use of Radio Dispatch Communications | MO | 12 FCC Rcd 9962
IB 97-142 | Rules and Policies on Foreign Participation in the U.S. Telecommunications Market | PN; OR | 15 FCC Rcd 21945; 65 FR 60113
IB 98-212 | AT&T Corporation and British Telecommunications PLC | MO | 14 FCC Rcd 19140
MD 92-92 | Establishment of Systems of Records Exempt Under the Privacy Act | RO | 58 FR 11549
MD 94-19 | Implementation of Section 9 of the Communications Act—Assessment and Collection of Regulatory Fees for the 1994 Fiscal Year | MO | 62 FR 39450
MD 96-186 | Amendment of Part 1 of the Commission's Rules, Pertaining to the Schedule of Annual Regulatory Fees for Mass Media Services | RO | 62 FR 59822
MD 98-200 | In the Matter of Assessment and Collection of Regulatory Fees For Fiscal year 1999 | MO | 65 FR 78989
MM 85-91 | Amendment of the Commission's Rules To Expand the Use of Automatic Transmission Systems at AM, FM and Television Broadcast Stations | RO | 51 FR 1374
MM 85-126 | Review of Technical and Operational Requirements: Broadcast Remote Pickup Service; and Low Power Auxiliary Stations | RO | 51 FR 4599
MM 86-110 | Amendment of Part 73 of the Commission's Rules Regarding Telecommunications Transmissions in the Vertical Blanking Interval | RO | 51 FR 34620
MM 87-267 | Review of Technical Assignment Criteria for AM Broadcast Service | MO | 65 FR 59751
MM 87-268 | Institute Inquiry on Issues Relating to the Introduction of Advanced Television Technologies (e.g., HDTV) | OR | FCC 00-59
MM 91-122 | Commission Policies Regarding Spousal Attribution | ST | 57 FR 8845
MM 91-168 | Codification of the Commission's Political Programming Policies | MO | 9 FCC Rcd 7919
MM 91-204 | For Renewal of License of Station KUCB(FM); for Construction Permit for a New FM Station Des Moines, IA | MO | FCC 92M-264
MM 92-304 | Renewal Reporting Requirements for Full Power, Commercial AM, FM and TV Broadcast Stations | OR | 58 FR 48323
MM 94-149 | Policies and Rules Regarding Minority and Female Ownership of Mass Media Facilities | MO | 64 FR 56974
MM 94-34 | Implementation of Commission's Equal Employment Opportunity Rules | RT | 59 FR 53363
MM 95-176 | Closed Captioning and Video Description of Video Programming | OR | 16 FCC Rcd 5067
PR 84-232 | In the Matter of Future Public Safety Telecommunications | OR | 50 FR 42573
PR 87-5 | Amendment of Footnote 3 of the Rules To Permit Operation of Mobile Remote Meter Reading Systems on a Primary Basis on the Exclusive Power Radio Service Frequencies in the 952.3625-952.8375 MHZ Band | MO | 54 FR 19836
PR 89-552 | Amendment of Part 90 of the Commission's Rules To Provide for the Use of the 220-222 MHZ Band by the Private Land Mobile Radio Services | MO | 15 FCC Rcd 13924
PR 89-553 | Modification of the Rules Governing Multiple Sites for Specialized Mobile Radio Service Systems in Rural Markets | MO | 65 FR 24419
PR 90-315 | Establish Technical Standards and Licensing Procedures for Aircraft Earth Stations | MO | 8 FCC Rcd 3156
PR 91-111 | Miscellaneous Amendments to Part 80 of the Rules Governing the Maritime Radio Services | OR | 57 FR 26778
PR 91-167 | Amendment of the Maritime Services Rules (Part 80) To Permit VHF Marine Channel 9 To Be Used as a Second Calling Channel | RO | 57 FR 19552
PR 93-61 | Amendment of Part 90 of the Rules To Adopt Regulations for Automatic 16 Vehicle Monitoring Systems | ON | 14 FCC Rcd 1339
PR 94-103 | Petition for Authority To Extend Its Rate Regulation of Commercial Mobile Radio Services in the State of Hawaii | RO | 10 FCC Rcd 7872
PR 94-104 | Petition To Extend State Authority Over Rate and Entry Regulation of All Commerical Mobile Radio Services | RO | 10 FCC Rcd 7824
PR 94-105 | Petition To Retain Regulatory Authority Over Intrastate Cellular Service Rates (Accompanied by Request for Proprietary Treatment of Documents Used in Support of Petition To Retain Regulatory Authority Over Intrastate | OR | 11 FCC Rcd 796
PR 94-106 | Petition To Retain Regulatory Control of the Rates of Wholesale Cellular Service Providers in the State of Connecticut | OR | 11 FCC Rcd 848
PR 94-107 | Petition for Authority To Retain Existing Jurisdiction Over Commercial Mobile Radio Services Offered Within the State of Louisiana | RO | 10 FCC Rcd 7898
PR 94-108 | Petition To Extend Rate Regulation | RO | 10 FCC Rcd 8187
PR 94-109 | Statement of Intention To Preserve Its Right for Future Rate and Market Entry Regulation of the Commercial Mobile Radio Services | OR | 10 FCC Rcd 12427
PR 94-110 | Petition for Authority To Maintain Current Regulation of Rates and Market Entry | PN | DA 94-1043
WT 00-130 | Request Amendment of the Commission's Rules to seek consent to Transfer Control of, or Assign,Broadband PCS and LMDS Licenses | MO | DA 00-2443
WT 00-81 | Application of Southwestern Bell Mobile Systems, Inc. and Alloy LLC for Authority, Pursuant to Part of the Commission's Rules, To Transfer Control of a License Controlled by SBC Communications Inc | MO | 15 FCC Rcd 25459
WT 95-11 | In the Matter of the Application of Herbert L. Schoenbohm for Amateur Station and Operator License, Kingshill, Virgin Islands | OR | 13 FCC Rcd 23774
WT 95-35 | Applications of George E. Rodgers for Amateur Station and Operator Licenses | MO | FCC 94M-121
WT 95-5 | Streamlining the Commission's Antenna Structure Clearance Procedure and Revision of Part 17 of the Commission's Rules Concerning Construction, Marking, and Lighting of Antenna Structures | MO | 65 FR 43349
WT 95-56 | Amendment of the Commission's Rules Concerning Low Power and Automated Maritime Telecommunications System Operations in the 216-217 MHZ Band | MO | 63 FR 24126
WT 96-148 | Geographic Partitioning and Spectrum Disaggregation by Commercial Mobile Radio Services Licensees | SRO | FCC 00-141
WT 96-162 | Amendment of the Rules to Establish Competitive Service Safeguards for Local Exchange Carrier Provision of Commerical Mobile Radio Services | OR | 14 FCC Rcd 414
WT 97-150 | Commission Opens Inquiry on Competitive Bidding Process for Report to Congress | RT | 13 FCC Rcd 9601
WT 98-228 | Commission Opens Filing Window For Commercial Operator License Examination Managers | PN | DA 98-2537
WT 99-263 | Petition of the Wireless Consumers Alliance, Inc. for a Declaratory Ruling concerning the provisions of the Communications Act of 1934 | ON | 16 FCC Rcd 5618
WT 99-355 | SBC Communications Inc. and RadioFone, Inc. seek FCC Consent to Transfer Control or Assign RadioFone's Licenses to SBC | PN | 15 FCC Rcd 4441
WT 99-364 | Triton Communications, L.L.C. and RCC Holdings, Inc. Seek Consent For Assignment | PN | DA 00-309
WT 99-365 | In the Matter of Paging Network, Inc. and Arch Communications Group, Inc. for Transfers of Control of Their Radio Licenses Location | OR | 16 FCC Rcd 1026
WT 00-207 | In the Matter of Petition for Determination of the Public Interest Under Section of the Communications Act 1934, As Amended | PN | DA 00-2397
WT 00-38 | Bell Atlantic, GTE, and ALLTEL Seek FCC Consent For Assignment and Transfer of Control of Wireless Licenses to Comply with Sopectrum Cap Rules and Department of Justice Consent Decree Regarding Pending Applications of Bell Atlantic, GTE, and Vodafone Airt | PN | DA 00-502
Action: ET Order Granting Extention of.
Time .
MO Memorandum Opinion and Order.
ON Order on Reconsideration.
OR Order.
PN Public Notice.
RO Report and Order.
RT Report.
SRO Second Report and Order.
ST Statement.

[FR Doc. 02-1859 Filed 1-24-02; 8:45 am]

BILLING CODE 6712-01-P